DEPARTMENT OF THE INTERIOR

Fish and Wildlife Service

[FWS-R2-ES-2008-N0086; 20124-11120000-F2]

Regional Habitat Conservation Plan, Hays County, TX

AGENCY: Fish and Wildlife Service, Interior.

ACTION: Notice of intent to prepare an environmental impact statement; announcement of public scoping meeting; request for comments.

SUMMARY: We, the U.S. Fish and Wildlife Service (Service), advise the public that we intend to prepare an Environmental Impact Statement (EIS) to evaluate the impacts of, and alternatives to, the proposed issuance of an Incidental Take Permit (ITP) under the Endangered Species Act of 1973 (Act), as amended (16 U.S.C. 1531 et seq.) to Hays County, Texas (Applicant). We also announce a public scoping meeting and public comment period.

DATES: We must receive written comments on alternatives and issues to be addressed in the EIS by July 18, 2008. We will hold a public scoping meeting on June 18, 2008, from 5:30 p.m. to 8:30 p.m. at the San Marcos Activity Center, 501 E. Hopkins Road, San Marcos, TX 78666.

ADDRESSES: Send your comments or request for information by any one of the following methods:

• U.S. mail: Field Supervisor, Fish and Wildlife Service, 10711 Burnet Road, Suite 200, Austin, TX 78758.

• Facsimile: 512-490-0974.

• E-mail: info@hayscountyhcp.com.

FOR FURTHER INFORMATION CONTACT:

• EIS Information: Ms. Allison Arnold, U.S. Fish and Wildlife Service, 10711 Burnet Road, Suite 200, Austin, TX 78758; 512-490-0057 (phone); 512-490-0974 (fax); or Allison_Arnold@fws.gov (e-mail).

• Hays County RHCP Information: County Judge Liz Sumter, 111 E. San Antonio St., Suite 300, San Marcos, TX 78666; 512-393-2205 (phone); or 512-393-2282 (fax).

• Other Information: You may obtain additional information on the Hays County RHCP on the Internet at http://www.hayscountyhcp.com.

SUPPLEMENTARY INFORMATION: We intend to prepare an EIS to evaluate the impacts of, and alternatives to, the proposed issuance of an ITP under the Act, to the Applicant. We also announce a public scoping meeting and public comment period. The Applicant proposes to apply for an ITP supported by development and implementation of the Hays County Regional Habitat Conservation Plan (RHCP). The Hays County RHCP will include measures necessary to minimize and mitigate the impacts of the proposed taking on the federally-listed species. We furnish this notice in compliance with the National Environmental Policy Act of 1969 (NEPA), as amended (42 U.S.C. 4321 et seq.), and its implementing regulations (40 CFR 1500-1508), in order to: (1) Advise other Federal and state agencies, affected tribes, and the public of our intent to prepare an EIS; (2) announce the initiation of a public scoping period; and (3) obtain suggestions and information on the scope of issues and alternatives we will consider in our EIS. We intend to gather the information necessary to determine impacts and alternatives for an EIS regarding our potential issuance of an ITP to the Applicant, and the implementation of the Hays County RHCP.

Purpose and Need for Action

Section 9 of the Act and its implementing regulations prohibit take of species listed under the Act as endangered or threatened. The definition of “take” under the Act includes the following activities: To harass, harm, pursue, hunt, shoot, wound, kill, trap, capture, or collect listed animal species, or attempt to engage in any such conduct (16 U.S.C. 1538). Regulations define “harm” as significant habitat modification or degradation that results in actual death or injury to the listed species by significantly impairing essential behavioral patterns, including breeding, feeding, or sheltering (50 CFR 17.3).

Section 10(a)(1)(B) of the Act requires us to issue ITPs to non-Federal entities for take of endangered and threatened species, provided the following criteria are met: (1) The taking will be incidental; (2) the applicant will, to the maximum extent practicable, minimize and mitigate the impact of such taking; (3) the applicant will develop a habitat conservation plan and ensure that adequate funding for the plan will be provided; (4) the taking will not appreciably reduce the likelihood of the survival and recovery of the species in the wild; and (5) the applicant will carry out any other measures that we may require as being necessary or appropriate for the purposes of the habitat conservation plan.

We anticipate that under the ITP, the Applicant will request coverage for a period of 30 years from the date of the RHCP approval. Implementation of the Hays County RHCP would result in the establishment of preserves intended to provide for the conservation of the covered species occupying those preserves. Research, monitoring, and adaptive management would be used to facilitate accomplishment of these goals.

Proposed Action

The proposed action is the issuance of an ITP for the covered species in Hays County. The Applicant would develop and implement the Hays County RHCP, which must meet the requirements in section 10(a)(2)(A) of the Act by providing measures necessary to minimize and mitigate the impacts of the proposed taking on the covered species.

Activities proposed for coverage under the ITP include otherwise lawful activities that would occur consistent with the Hays County RHCP and include, but are not limited to, construction and maintenance of public projects and infrastructure as well as residential, commercial, and industrial development.

Species the Applicant has recommended for inclusion as covered species in the Hays County RHCP include the golden-cheeked warbler (Dendroica chrysoparia) and black-capped vireo (Vireo atricapilla). For these covered species, Hays County would seek incidental take authorization. The Hays County RHCP would also address 40 “evaluation species” (39 terrestrial or aquatic karst species and the Cagle's map turtle (Graptemys caglei)) and 15 “additional species” (6 listed aquatic species, 3 unlisted plants, and 6 unlisted surface aquatic species). Incidental take authorization for the evaluation species may become necessary to include in the proposed ITP over the term of the Hays County RHCP; however, these species will not be initially included as “covered” species. Evaluation species may be currently unlisted, but could become listed in the foreseeable future. The Hays County RHCP may include conservation measures to benefit evaluation species, where practicable, and support research to help fill data gaps regarding the biology, habitat, distribution, or management of these species. The research supported by the RHCP may aide in the conservation of these species or facilitate obtaining incidental take coverage, if these species become listed in the future. For the 15 “additional species,” Hays County would not seek incidental take authorization because these species either are not currently listed as threatened or endangered, or are not likely to experience take from covered activities, or insufficient information is available to adequately evaluate take and mitigation.

Alternatives

The proposed action and alternatives that will be developed in the EIS will be assessed against the No Action/No Project Alternative, which assumes that some or all of the current and future take of covered species in Hays County would be implemented individually, one at a time, and be in compliance with the Act. The No Action/No Project alternative implies that the impacts from these potential activities on the covered species would be evaluated and mitigated on a project-by-project basis, as is currently the case. For any activities involving take of listed species due to non-Federal actions, individual Section 10(a)(1)(B) permits would be required. Without a coordinated, comprehensive conservation approach for Hays County, listed species may not be adequately addressed by individual project-specific mitigation requirements, unlisted candidate and other rare species would not receive proactive conservation actions, and mitigation would be less cost effective in helping Federal and non-Federal agencies work toward recovery of listed species. Current independent conservation actions would continue, although some of these are not yet funded. A reasonable range of alternatives would also be considered, along with the associated impacts of the various alternatives.

Scoping Meeting

A primary purpose of the scoping process is to receive suggestions and information on the scope of issues and alternatives to consider when drafting the EIS, and to identify, rather than debate, significant issues related to the proposed action. In order to ensure that we identify a range of issues and alternatives related to the proposed action, we invite comments and suggestions from all interested parties. We will accept oral and written comments at this meeting. You may also submit your comments to the address listed in ADDRESSES. Once the draft EIS RHCP are completed, additional opportunity for public comment on the content of these documents and an additional public meeting will be provided.

We will conduct a review of this project according to the requirements of NEPA and its regulations; other appropriate Federal laws, regulations, policies, and guidance; and Service procedures for compliance with those regulations.

Persons needing reasonable accommodations in order to attend and participate in the public meeting should contact the Service at the address below no later than one week before the public meeting. Information regarding this proposed action is available in alternative formats upon request.

Public Availability of Comments

All comments we receive become part of the public record. Requests for comments will be handled in accordance with the Freedom of Information Act, NEPA, and Service and Department of the Interior policies and procedures. Before including your address, phone number, e-mail address, or other personal identifying information in your comment, you should be aware that your entire comment—including your personal identifying information—may be made publicly available at any time. While you can ask us to withhold your personal identifying information from public review, we cannot guarantee we will be able to do so.

Environmental Review

The EIS will be prepared in accordance with the requirements of NEPA, its implementing regulations (40 CFR parts 1500-1508), other applicable regulations, and the Service's procedures for compliance with those regulations. The EIS will analyze the proposed action, as well as a range of reasonable alternatives and the associated impacts of each. The EIS will be the basis for our evaluation of impacts to the covered species and the range of alternatives to be addressed. We expect the EIS to provide biological descriptions of the affected species and habitats, as well as the effects of the proposed action on resources such as: vegetation, wetlands, wildlife, threatened or endangered species and rare species, geology and soils, air quality, water resources, flood control, water quality, cultural resources (prehistoric, historic, and traditional cultural properties), land use, recreation, water use, local economy, and environmental justice.

After the environmental review is complete, we will publish a notice of availability along with a request for comment on the draft EIS and the applicant's permit application, which will include the Hays County RHCP. The draft EIS and RHCP are expected to be completed and available to the public by January 2009.

Thomas L. Bauer,
Acting Regional Director, Southwest Region, Albuquerque, New Mexico.

[FR Doc. E8-10941 Filed 5-15-08; 8:45 am]

BILLING CODE 4510-55-P